DEPARTMENT OF HOMELAND SECURITY

Notice Designating University of Southern California as Center for Homeland Security

AGENCY: Department of Homeland Security.

ACTION: Notice.

SUMMARY: The Department of Homeland Security has designated the University of Southern California as a Center for Homeland Security (HS-Center).

FOR FURTHER INFORMATION CONTACT: Laura Petonito, Deputy Director, University Programs, Science and Technology Division, Department of Homeland Security, Washington, DC 20528; telephone 202-401-1113, facsimile 202-772-9916; e-mail laura.petonito@dhs.gov.

SUPPLEMENTARY INFORMATION:

Background

Section 308 of the Homeland Security Act of 2002, Pub. L. 107-296, (Homeland Security Act), as amended by the Omnibus Appropriation Act of 2003, Pub. L. 108-7, directs the Department of Homeland Security (Department) to sponsor extramural research, development, demonstration, testing and evaluation programs relating to homeland security. As part of this program, the Department is to establish a university-based center or centers for homeland security.

The purpose of these centers is to provide a locus to attract and retain academic scholars in pursuit of homeland security-related disciplines. The Centers are envisioned to be an integral and critical component of the Department's capability to anticipate, prevent, respond to, and recover from terrorist attacks. The Centers will leverage multidisciplinary capabilities of universities and fill gaps in current knowledge.

Section 308(b)(2)(B) of the Homeland Security Act lists fourteen areas of substantive expertise that, if demonstrated, might qualify universities for designation as university-based centers. The listed areas of expertise include, among others, food safety, first responders, multi-modal transportation, and responding to incidents involving weapons of mass destruction. However, the list is not exclusive. Section 308(b)(2)(C) gives the Secretary discretion to consider additional criteria beyond those specified in section 308(b)(2)(B) in selecting universities for this program, as long as the Department issues a Federal Register notice explaining the criteria used for the designation.

Criteria

In 2002, the National Research Council (NRC) issued a report entitled “Making the Nation Safer: The Role of Science and Technology in Countering Terrorism.” In this report, the NRC recommended a number of substantive areas for research that could contribute to national security. Among other issues, the NRC report identified the need to perform risk analysis and modeling of vulnerabilities and economic analysis of security enhancements as areas for which research is needed.

The Department agrees that research in these areas will contribute significantly to the Department's ability to identify, and select among, options for enhancing national security. Risk-based modeling, and economic analysis, will help the Department understand the impact and consequences of potential acts of terrorism, thus providing decision makers with validated tools to evaluate vulnerabilities and identify countermeasures and response actions.

Solicitation of Interest and Designation

In August 2003, the Department sought white papers from universities that wished to be designated as HS-Centers. The HS-Centers are envisioned to be an integral and critical component of the new “homeland security complex” that will provide the nation with a robust, dedicated and enduring capability that will enhance our ability to anticipate, prevent, respond to, and recover from terrorist attacks. The notice, made available on the DHS Internet site (http://www.dhs.gov) and (http://www.orau.gov/dhsuce), identified risk-based economic modeling as one of the areas of expertise (criteria) that might merit designation.

The Department received a number of proposals and evaluated them through a process that included the participation of federal government and outside experts. After the panels of experts selected final potential designees, the Department conducted site visits to interview the individuals who would be performing the research. Based on this evaluation, the Department has selected the University of Southern California (USC) as the first HS-Center for this program.

USC will conduct research on risk-based modeling, with a particular emphasis on the economic aspects. U.S.C. will develop an integrated set of models and modeling capabilities that cut across several threats and targets—impacts on buildings and structures, airborne biological and chemical agents, and cyber-terrorism. Other research areas besides modeling and analysis of risks, will be in emergency response, consequences, economics, advanced computation and infrastructure. U.S.C. is committed to ensuring that students will have opportunities to develop and contribute to these important areas through hands-on training and internships, as examples. Workshops for the scientific community, collaboration with federal laboratories, and support for sabbatical visitors are additional activities planned for this HS-Center.

Dated: November 21, 2003.
Melvin Bernstein,
Director, University Programs, Science and Technology Division, Department of Homeland Security.

[FR Doc. 03-29646 Filed 11-24-03; 11:36 am]

BILLING CODE 4410-10-P